DEPARTMENT OF COMMERCE

International Trade Administration

[A-570-086]

Steel Propane Cylinders From the People's Republic of China: Notice of Final Results of Antidumping Duty Changed Circumstances Review

AGENCY: Enforcement and Compliance, International Trade Administration, Department of Commerce.

SUMMARY: On November 19, 2021, the Department of Commerce (Commerce) published the initiation and preliminary results of a changed circumstances review (CCR) of the antidumping duty (AD) order on steel propane cylinders from the People's Republic of China (China). For these final results, Commerce continues to find that Yi Jun Hong Kong Limited (Yi Jun) is the successor-in-interest to Hong Kong GSBF Company Limited (GSBF) and should be assigned the same AD cash deposit rates for purposes of determining AD liability.

DATES: Applicable January 4, 2022.

FOR FURTHER INFORMATION CONTACT: Katherine Sliney, AD/CVD Operations, Office III, Enforcement and Compliance, International Trade Administration, U.S. Department of Commerce, 1401 Constitution Avenue NW, Washington, DC 20230; telephone: (202) 482-2437.

SUPPLEMENTARY INFORMATION:

Background

On September 30, 2021, Yi Jun requested that, pursuant to section 751(b) of the Tariff Act of 1930, as amended (the Act), 19 CFR 351.216, and 19 CFR 351.221(c)(3), Commerce conduct a CCR of the Order ¹ to confirm that Yi Jun is the successor-in-interest to GSBF, and to assign it the cash deposit rate of GSBF.² In its submission, Yi Jun states that it underwent a name change, but otherwise was unchanged.³

¹ See Steel Propane Cylinders from the People's Republic of China and Thailand: Amended Final Determination of Sales at Less Than Fair Value and Antidumping Duty Orders, 84 FR 41703 (August 15, 2019) (Order).

² See Yi Jun's Letter, “Steel Propane Cylinders from the People's Republic of China—Yi Jun/GSBF Changed Circumstances Review,” dated September 30, 2021.

³ Id. at 3-7.

On November 19, 2021, Commerce initiated a CCR and preliminarily determined that Yi Jun is the successor-in-interest to GSBF.⁴ In the Initiation and Preliminary Results CCR, we provided all interested parties with an opportunity to comment.⁵ However, we received no comments.

⁴ See Steel Propane Cylinders from the People's Republic of China: Notice of Initiation and Preliminary Results of Antidumping Duty Changed Circumstance Review, 86 FR 64899 (November 19, 2021) (Initiation and Preliminary Results CCR).

⁵ Id., 86 FR at 64901.

Scope of the Order

The merchandise subject to the Order is steel cylinders for compressed or liquefied propane or other gases (steel propane cylinders). The merchandise subject to the Order is properly classified under statistical reporting numbers 7311.00.0060 and 7311.00.0090 of the Harmonized Tariff Schedule of the United States (HTSUS). Although the HTSUS statistical reporting numbers are provided for convenience and customs purposes, the written description of the merchandise is dispositive.⁶

⁶ For the full scope language, see id., 86 FR at 64900.

Final Results of Changed Circumstances Review

For the reasons stated in the Initiation and Preliminary Results CCR, Commerce continues to find that Yi Jun is the successor-in-interest to GSBF. As a result of this determination and consistent with established practice, we find that Yi Jun should receive the cash deposit rate previously assigned to GSBF. Consequently, Commerce will instruct U.S. Customs and Border Protection to suspend liquidation of all shipments of subject merchandise produced by GSBF Tank Inc. (GSBF Tank) and exported by Yi Jun and entered, or withdrawn from warehouse, for consumption on or after the publication date of this notice in the Federal Register at the cash deposit rate in effect for subject merchandise produced by GSBF Tank and exported by GSBF. This cash deposit requirement shall remain in effect until further notice.

Notification to Interested Parties

We are issuing this determination and publishing these final results and notice in accordance with sections 751(b)(1) and 777(i)(1) and (2) of the Act, and 19 CFR 351.216(e), 351.221(b), and 351.221(c)(3).

Dated: December 27, 2021.
Ryan Majerus,
Deputy Assistant Secretary for Policy and Negotiations, performing the non-exclusive functions and duties of the Assistant Secretary for Enforcement and Compliance.

[FR Doc. 2021-28487 Filed 1-3-22; 8:45 am]

BILLING CODE 3510-DS-P